DEPARTMENT OF VETERANS AFFAIRS

Joint Biomedical Laboratory Research and Development and Clinical Science Research and Development Services Scientific Merit Review Board, Notice of Meeting Amendment

The Department of Veterans Affairs (VA) gives notice under the Public Law 92-463 (Federal Advisory Committee Act) that the meetings for the following three panels of the Joint Biomedical Laboratory Research and Development and Clinical Science Research and Development Services Scientific Merit Review Board have changed their meeting date or location as originally announced in the Federal Register on April 4, 2012. They are:

• Cellular and Molecular Medicine will meet on June 4, 2012, at the Sheraton Suites Old Town Alexandria and not at VA Central Office.

• Gastroenterology will meet on June 4, 2012, at L'Enfant Plaza Hotel, and not on June 11-12, 2012.

• Clinical Research Program will meet on June 7-8, 2012, at *VA Central Office and not at Sheraton Suites—Old Town Alexandria.

The addresses of the hotel and VA Central Office are:

L'Enfant Plaza Hotel, 480 L'Enfant Plaza SW., Washington, DC.

Sheraton Suites—Old Town Virginia, 801 North Saint Asaph Street, Alexandria, Virginia.

*VA Central Office, 131 M Street NE., Washington, DC.

*Teleconference.

The purpose of the Board is to provide advice on the scientific quality, budget, safety and mission relevance of investigator-initiated research proposals submitted for VA merit review consideration. Proposals submitted for review by the Board involve a wide range of medical specialties within the general areas of biomedical, behavioral and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with 5 U.S.C., 552b(c)(6) and (9)(B).

Those who plan to attend the general session or would like to obtain a copy of minutes of the panel meetings and rosters of the members of the panels should contact LeRoy G. Frey, Ph.D., Chief, Program Review (10P9B), Department of Veterans Affairs, 810 Vermont Avenue NW., Washington, DC 20420, or call (202) 443-5674 or by email at Leroy.frey@va.gov.

By Direction of the Secretary.
Dated: April 26, 2012.
Vivian Drake,
Committee Management Officer.

[FR Doc. 2012-10525 Filed 5-1-12; 8:45 am]

BILLING CODE P